SMALL BUSINESS ADMINISTRATION

Guidelines for Reporting Bundled and Consolidated Contracts

AGENCY: U.S. Small Business Administration.

ACTION: Notice.

SUMMARY: The U.S. Small Business Administration (SBA) submits an annual Contract Bundling Report to Congress which provides the total bundled contract dollars and information regarding bundled contracts for the prior fiscal year (FY). Section 873 of the National Defense Authorization Act (NDAA) for FY 2023 amended the U.S. Code (U.S.C.) requiring data and information on the consolidation of contract requirements to be included in the annual Contract Bundling and Consolidation Report to Congress. Beginning in December 2023, the Federal agencies shall provide data and information on all bundled or consolidated contract requirements in their annual reports to SBA.

FOR FURTHER INFORMATION CONTACT: Donna Fudge, Procurement Analyst, Office of Policy, Planning, and Liaison, Small Business Administration, at Donna.fudge@sba.gov, (202) 205-6363.

SUPPLEMENTARY INFORMATION: The National Defense Authorization Act (NDAA) for FY 2023, section 873, amended 15 U.S.C. 644(p) requiring data and information on the consolidation of contract requirements to be included in the annual Contract Bundling and Consolidation Report to Congress. Beginning in December 2023, the Federal agencies shall provide data and information on all bundled or consolidated contract requirements in their annual reports to SBA.

Each annual report shall include the following information:

• Data on the number, arranged by NAICS, of small business concerns displaced as prime contractors as a result of the award of bundled or consolidated contracts by Federal agencies; and

• A description of the activities with respect to previously bundled or consolidated contracts of each Federal agency during the preceding year, including—

• Data on the number and total dollar amount of all contract requirements that were included in bundled or consolidated contracts; and

With respect to each bundled or consolidated contract, data or information on—

• The justification for the bundling of contract requirements or consolidation of contract requirements (as applicable);

• The cost savings realized by the bundling of contract requirements or the consolidation of contract requirements (as applicable) over the life of the contract;

• The extent to which maintaining contract requirements in a bundled or consolidated contract is projected to result in continued savings;

• The extent to which the bundling of contract requirements or the consolidation of contract requirements (as applicable) complied with the contracting agency's small business subcontracting plan, including the total dollar value awarded to small business concerns as subcontractors and the total dollar value previously awarded to small business concerns as prime contractors; and

• The impact of the bundling of contract requirements or the consolidation of contract requirements (as applicable) on small business concerns unable to compete as prime contractors for the contract and on the industries of such small business concerns, including a description of any changes to the proportion of any such industry that is composed of small business concerns.

If SBA does not receive a Contract Bundling and Consolidation Report from an agency, SBA will report the agency and SAM.gov data regarding the agency's bundled or consolidated contracts to Congress with the consolidated annual report.

If the agency determines that actions were incorrectly coded as bundled or consolidated in SAM.gov, the agency is responsible for correcting SAM.gov to reflect the accurate status. SBA will not adjust the SAM.gov data on its own.

The report must be submitted to SBA in a Section 508 compliant PDF. Agencies should verify the report is section 508 compliant with their office responsible for section 508 compliance prior to submission to SBA.

Periodic Report for Bundled Contract Database

Agencies must submit information to SBA on a periodic basis to include in the bundling-affected contractors database, as required by section 15(p)(2) of the Small Business Act, 15 U.S.C. 644(p)(2). The database identifies each small business concern that has been displaced as a prime contractor as the result of a bundled contract.

In accordance with section 15(p)(2), agencies must provide to SBA on a periodic basis—and no less than annually—(1) a list of the bundled contracts awarded by the Federal agency since the agency's last report and (2) the name and unique entity identifier (UEI) for each small business concern that has been displaced as a prime contractor as a result of the award of the bundled contract.

Larry Stubblefield,
Acting Associate Administrator, Office of Government Contracting and Business Development.

[FR Doc. 2023-20521 Filed 9-21-23; 8:45 am]

BILLING CODE 8026-09-P